DEPARTMENT OF TRANSPORTATION

Office of the Secretary

Departmental Office of Civil Rights; Privacy Act of 1974; System of Records Notice (SORN)

AGENCY: Department of Transportation (DOT).

ACTION: Notice to establish a system of records.

SUMMARY: DOT intends to establish a system of records under the Privacy Act of 1974 to facilitate the provision of reasonable accommodations to individuals with disabilities by establishing procedures, timeframes and forms for supervisors/decision makers to use in processing requests from employees and applicants for employment, called the On-line Accommodation Tracking System (OATS). The system enhances compliance with Executive Order 13164, Equal Employment Opportunity Commission (EEOC) guidance, and DOT Order 1011.1 “Procedures for Processing Reasonable Accommodation Requests by DOT Job Applicants and Employees with Disabilities.” DOT is required to collect information on accommodation requests and report annually whether requested accommodations were provided or denied within the allowable time frame established by agency procedures (a maximum of 25 business days for DOT).

The system was created to capture the required information. The system will assist supervisors/decision makers in ensuring that a decision to grant or deny is made timely and if granted, that the accommodation is provided within the time frame allowed, and will allow timeliness to be monitored by a designated OATS Administrator in each DOT organization.

The system of records is more thoroughly detailed below and in a Privacy Impact Assessment (PIA) that DOT will post on the DOT Privacy Web site at www.dot.gov/privacy.

DATES: Comments are due October 20, 2009.

ADDRESSES: Send comments to: Christy Compton, Disability Program Manager, Departmental Office of Civil Rights, U.S. Department of Transportation, 1200 New Jersey Avenue, SE., Washington, DC 20590; or christy.compton@dot.gov.

FOR FURTHER INFORMATION CONTACT: For privacy issues please contact: Habib Azarsina, Departmental Privacy Officer, Office of the Chief Information Officer, U.S. Department of Transportation, 1200 New Jersey Avenue, SE., Washington, DC, 202-366-1965; or habib.arzarsina@dot.gov.

SUPPLEMENTARY INFORMATION:

I. The Privacy Act

The Privacy Act (5 USC 552a) governs the means by which the United States Government collects, maintains, and uses Personally Identifiable Information (PII) in a system of records. A “system of records” is a group of any records under the control of a Federal agency from which information about individuals is retrieved by name or other personal identifier.

The Privacy Act requires each agency to publish in the Federal Register a notice in accordance with the System of Record Notice (SORN) which requires identifying and describing each system of records the agency maintains, including the purposes for which the agency uses PII in the system, the routine uses for which the agency discloses such information outside the agency, and how individuals can exercise their rights under the Privacy Act (e.g., to determine if the system contains information about them).

II. Privacy Impact Assessment

DOT has prepared a PIA to coincide with this SORN. It will be posted on the DOT Privacy Web site at http://www.dot.gov/privacy.

In accordance with 5 U.S.C. 552a(r), a report on the establishment of this new system of records has been sent to Congress and to the Office of Management and Budget.

SYSTEM NUMBER:

DOT/ALL 20

SYSTEM NAME:

On-line Accommodation Tracking System (OATS)

SECURITY CLASSIFICATION:

Sensitive, unclassified.

SYSTEM LOCATION:

Servers: The Servers hosting OATS are maintained in a secure government facility in Frederick, MD, which is staffed 24 hours a day, 7 days a week.

Portals: Supervisors, modal OATS administrators, and the Departmental Office of Civil Rights' system manager may access the system via desktop computers that are in the secure DOT computer network.

CATEGORIES OF INDIVIDUALS COVERED BY THE SYSTEM:

Employees and applicants who request reasonable accommodation for a disability.

CATEGORIES OF RECORDS IN THE SYSTEM:

Once a request for accommodation is received by a supervisor/decision maker, the supervisor/decision maker enters the request, including the date it is received, the name of the individual making the request, the type of request made, and other relevant information into OATS.

PII in the system consists of: employee's or applicant's name, functional limitation caused by the disability, reasonable accommodation (RA) requested, explanation of how RA would assist the applicant in the application process or the employee in performing his/her job or receiving the benefits and privileges of employment, dates when the required interactive discussions were held, notes from discussion regarding the request, action by deciding official, whether medical documentation was sought, justification for requesting medical documentation, any sources of technical assistance that were consulted, and if the request was denied, the reason for denial (but not medical documentation, which will be kept in a separate file).

Non-PII in the system includes: The employee's or applicant's occupational series and grade or pay equivalent, operating administration, division or office, position title, office location and address and office telephone number; and the deciding official's name, title and office telephone number.

AUTHORITY FOR MAINTENANCE OF THE SYSTEM:

The Rehabilitation Act of 1973, as amended, 29 U.S.C. 791; Executive Order 13164.

PURPOSE(S):

The purpose for which the system collects information is to implement government-wide requirements and uniform DOT procedures to track and monitor reasonable accommodation requests. The system makes data available to DOT personnel involved in processing and monitoring reasonable accommodation requests. The system of records will serve as the agency's record of the administrative events pertaining to the approval or disapproval of each requested accommodation and will provide aggregate data on the number and type of requests and timelines for approving or disapproving the requests.

ROUTINE USES OF RECORDS MAINTAINED IN THE SYSTEM, INCLUDING CATEGORIES OF USERS AND THE PURPOSES OF SUCH USES:

These records, and the information in these records, may be disclosed outside of DOT as follows:

(1) To a congressional office from the record of an individual in response to an Inquiry from the congressional office made at the request of the individual.

(2) To an authorized appeal grievance examiner, formal complaints examiner, administrative judge, equal employment opportunity investigator, arbitrator or other duly authorized official engaged in investigation or settlement of a grievance, complaint, or appeal filed by an employee.

(3) To another Federal agency, to a court, or a party in litigation before a court or in an administrative proceeding being conducted by a Federal agency when the Government is a party to the judicial or administrative hearing.

Other possible routine uses of the information, applicable to all DOT systems, are published in the Federal Register at 65 FR 19476 (April 11, 2000), under “Prefatory Statement of General Routine Uses” (available at http://www.dot.gov/privacy/privacyactnotices/).

DISCLOSURE TO CONSUMER REPORTING AGENCIES:

None.

POLICIES AND PRACTICES FOR STORING, RETRIEVING, ACCESSING, RETAINING, AND DISPOSING OF RECORDS IN THE SYSTEM:

STORAGE:

Data files are maintained on servers in a secure government facility located in Frederick, MD 21703, staffed twenty-four hours per day, seven days a week.

RETRIEVABILITY:

Records are retrieved by the date of the reasonable accommodation request, the name of the deciding official, the name of the employee or employment applicant's name, record number, and operating administration or office.

SAFEGUARDS:

Designated, approved Federal employees have access to this system according to job roles and responsibilities for use in their respective jobs. These employees are fully aware of the need to keep the information confidential and already have duties in the area of reasonable accommodation. Each supervisor can see only the records that s/he entered.

All IT support staff and contractors are briefed on IT security requirements and associated responsibilities.

Access to the system is controlled by user credentials maintained in a secure database.

All personally identifiable information maintained in the system is encrypted via availability, economics, and solutions technology. The system uses Secure Socket Layer to ensure secure data transmission over the internet. Access to records in OATS is limited to specific DOT personnel. Electronic access to PII is limited according to job function. DOT controls access privileges according to a documented roles matrix, with each individual receiving the minimum necessary access to PII and permissions. In addition, access to PII requires access to a secure site with complex password requirements. Password and account procedures comply with the following basic guidelines:

• Account holders are required to possess a valid DOT email address to use the system.

• All reasonable accommodation requests are protected through a Secure Socket Layer connection.

• Data fields containing the First Name, Last Name, Phone Number, and Email address of the requestor are encrypted in the database.

• Minimum length of passwords is eight characters.

• Passwords must be a combination of letters and numbers.

RETENTION AND DISPOSAL:

Records related to specific individuals are to be maintained for the duration of employment. Aggregate data used to track the agency's performance are to be maintained for five years.

SYSTEM MANAGER AND ADDRESS:

Christy Compton, Disability Program Manager, Departmental Office of Civil Rights, U.S. Department of Transportation, 1200 New Jersey Avenue, SE., Washington, DC 20590.

NOTIFICATION PROCEDURE:

Individuals or business entities wishing to know if their records appear in this system should direct their requests to the System Manager identified above.

RECORD ACCESS PROCEDURE:

Individuals seeking access to information about them in this system should follow the same procedure as indicated under “Notification Procedure.”

CONTESTING RECORDS PROCEDURE:

Individuals seeking to contest the content of information about them in this system should follow the same procedure as indicated under “Notification Procedure.”

RECORD SOURCE CATEGORIES:

Information relating to the accommodation process will be supplied by the individual requesting accommodation(s), the individual's supervisor, and occasionally the modal OATS Administrator.

EXEMPTIONS CLAIMED FOR THIS SYSTEM:

None.

Dated: September 3, 2009.
Habib Azarsina,
Departmental Privacy Officer.

[FR Doc. E9-21804 Filed 9-9-09; 8:45 am]

BILLING CODE 4910-9X-P